DEPARTMENT OF THE INTERIOR

Bureau of Indian Affairs

Notice of Acceptance of Retrocession of Jurisdiction for the Santee Sioux Nation, NE

AGENCY: Bureau of Indian Affairs, Interior.

ACTION: Notice.

SUMMARY: Pursuant to the authority vested in the Secretary of the Interior by Executive Order No. 11435 of November 21, 1968 (33 FR 17339), and redelegated to the Associate Deputy Secretary, I hereby accept at 12:01 a.m. CST, February 15, 2006, retrocession to the United States of civil and criminal jurisdiction over the Santee Sioux Nation, which was acquired by the State of Nebraska, pursuant to Public Law 83-280, 67 Stat. 588, 18 U.S.C. 1162, 28 U.S.C. 1360.

The retrocession herein accepted was offered by Legislative Resolution 17 by the legislature of the State of Nebraska on May 31, 2001, and transmitted to the Secretary on November 13, 2001. By Resolution No. 2001-12 dated December 20, 2000, the Santee Sioux Nation requested that the State of Nebraska retrocede civil and criminal jurisdiction to the United States.

FOR FURTHER INFORMATION CONTACT: Mr. Christopher B. Chaney, Deputy Bureau Director, Bureau of Indian Affairs, Office of Law Enforcement Services, 1849 C Street, NW., Mail Stop 2429, Washington, DC 20240, Telephone number (202) 208-5787.

Dated: February 8, 2006.
James E. Cason,
Associate Deputy Secretary.

[FR Doc. 06-1437 Filed 2-10-06; 8:45 am]

BILLING CODE 4310-G6-P